DEPARTMENT OF THE INTERIOR

National Park Service

[NPS-NER-HPPC-1011-8639; 2030-A056-409]

Draft Environmental Impact Statement for the Susquehanna to Roseland 500-kilovolt Transmission Line

AGENCY: National Park Service, Interior.

ACTION: Notice of Availability.

SUMMARY: The National Park Service announces the availability of the draft environmental impact statement for the Susquehanna to Roseland 500-kilovolt transmission line, which will affect the Appalachian National Scenic Trail, Delaware Water Gap National Recreation Area, and Middle Delaware National Scenic and Recreational River.

DATES: The National Park Service will accept comments on the draft environmental impact statement from the public for a period of 60 days following publication of the Environmental Protection Agency's Notice of Availability in the Federal Register. You may check the Web site of Delaware Water Gap National Recreation Area at http://www.nps.gov/dewa for dates, times, and places of public meetings to be conducted by the National Park Service, or you can call (570) 828-2253.

ADDRESSES: You may submit comments by any one of several methods. You may mail comments to Superintendent John Donahue, Delaware Water Gap National Recreation Area, HQ River Rd off Route 209, Bushkill, PA 18324-9999 or to Superintendent Pamela Underhill, Appalachian Trail Park Office, P.O. Box 50, Harpers Ferry, WV 25425. The preferred method of comment is via the internet at http://parkplanning.nps.gov. You may also fax your comments to (570) 426-2402. The document will be available for public review and comment online at http://parkplanning.nps.gov, and can be viewed at the following locations:

Eastern Monroe Public Library, 1002 North Ninth Street, Stroudsburg, PA 18360.

Easton Area Public Library, 515 Church Street, Easton, PA 18042.

Kemp Library East Stroudsburg University, Normal Street, East Stroudsburg, PA 18301.

Pike County Public Library, 201 Broad Street, Milford, PA 18337.

Pike County Public Library, Dingman Township Branch, 100 Bond Court, Dingmans Ferry, PA 18328.

Sussex County Library, 125 Morris Turnpike, Newton, NJ 07860.

Warren County Library, 199 Hardwick Street, Belvidere, NJ 07823.

SUPPLEMENTARY INFORMATION: The Appalachian National Scenic Trail, Delaware Water Gap National Recreation Area, and the Middle Delaware National Scenic and Recreational River are famed for the recreational, scenic, natural, and cultural resources they contain. Each year, Delaware Water Gap National Recreation Area receives more than 5.2 million recreational visitors, and the Delaware River is one of the primary recreational attractions in the park. More than 27 miles of the Appalachian National Scenic Trail occur within the boundaries of Delaware Water Gap National Recreation Area; the Appalachian National Scenic Trail attracts more than 4 million visitors each year.

The existing transmission line right-of-way predates the establishment of the Appalachian National Scenic Trail in 1937, Delaware Water Gap National Recreation Area in 1965, and the Middle Delaware National Scenic and Recreational River in 1978. The applicants, the Pennsylvania Power and Light Electric Utilities Corporation and the Public Service Electric and Gas Company, have expressed a need to construct a 500-kilovolt power line connecting the Susquehanna and Roseland substations. The purpose of the draft environmental impact statement (EIS) is to respond to the applicants' need in light of the purposes and resources of the affected units of the national park system, as expressed in statutes, regulations, and policies.

The National Park Service has developed the draft EIS under section 102(2)(C) of the National Environmental Policy Act of 1969 (Pub. L. 91-190, as amended) and consistent with National Park Service laws, regulations, and policies, and the purpose of these three parks. The draft EIS describes and analyzes six alternatives (1, 2, 2b, 3, 4, and 5) to guide the decision to grant or deny the construction and right-of-way permits requested by the applicants. The applicants have proposed construction of a 500-kilovolt transmission line from the Susquehanna Substation (Berwick, Pennsylvania) to the Roseland Substation (Roseland, New Jersey). The construction and right-of-way permits would allow the construction through Delaware Water Gap National Recreation Area, Middle Delaware National Scenic and Recreational River, and Appalachian National Scenic Trail in Pennsylvania and New Jersey. The alternatives follow existing rights-of-way to reduce the impacts from construction and operation of the transmission line. Included in the suite of alternatives is the no-action alternative (alternative 1), which is the National Park Service's environmentally preferred alternative.

The draft EIS evaluates potential environmental consequences of implementing the alternatives. Impact topics include the natural, cultural, and socioeconomic environments.

This notice also announces that public meetings will be held to solicit comments on the draft EIS during the public review period. The dates, times, and locations will be announced on Delaware Water Gap National Recreation Area's Web site http://www.nps.gov/dewa, in local papers, and can be obtained by calling (570) 828-2253.

Before including your address, phone number, email address, or other personal identifying information in your comment, you should be aware that your entire comment—including your personal identifying information—may be made publicly available at any time. While you can ask us in your comment to withhold your personal identifying information from public review, we cannot guarantee that we will be able to do so.

Dated: November 4, 2011.
Mike Caldwell,
Deputy Regional Director, Chief of Staff, Northeast Region, National Park Service.

[FR Doc. 2011-29943 Filed 11-18-11; 8:45 am]

BILLING CODE 4312-JG-P